DEPARTMENT OF COMMERCE

Economic Development Administration

Economic Development Administration Reauthorization Act of 2004 Implementation; Comprehensive Review of Information Collections

AGENCY: Economic Development Administration, Department of Commerce.

ACTION: Notice of Information Collections; Request for Public Comments.

SUMMARY: The Economic Development Administration (“EDA”), as part of its continuing effort to reduce paperwork and respondent burden, provides the general public and other federal agencies with an opportunity to comment on proposed and current collections of information in accordance with the Paperwork Reduction Act of 1995 (44 U.S.C. 3501 et seq.).

EDA has published an interim final rule (70 FR 47002) revising its regulations to reflect the amendments made to EDA's authorizing statute, the Public Works and Economic Development Act of 1965 (“PWEDA”), by the Economic Development Administration Reauthorization Act of 2004 (the “2004 Act”). With limited exceptions, the interim final rule became effective on October 1, 2005. EDA is currently conducting a comprehensive review of its forms and other information collections to ensure that they correspond with the 2004 Act and with the interim final rule. EDA is soliciting public comments on the collections of information contained in this notice.

DATES: Written comments must be submitted on or before January 13, 2006.

ADDRESSES: Interested parties are invited to submit written comments to Diana H. Hynek, Departmental Paperwork Clearance Officer, Department of Commerce, HCHB Room 6625, 1401 Constitution Avenue, NW., Washington, DC 20230. Written comments may also be submitted to the attention of Ms. Hynek via fax at (202) 482-4218 or via e-mail at dhynek@doc.gov. Please note that any correspondence sent by regular mail may be substantially delayed or suspended in delivery, since all regular mail sent to the Department of Commerce (the “Department”) is subject to extensive security screening.

FOR FURTHER INFORMATION CONTACT: Requests for additional information or copies of the information collection instruments and instructions should be directed to Kenneth M. Kukovich, EDA PRA Liaison, Office of Management Services, Economic Development Administration, Department of Commerce, HCHB Room 7227, 1401 Constitution Avenue, NW., Washington, DC 20230; telephone: (202) 482-4965; e-mail: kkukovich@eda.doc.gov. All of the EDA forms referenced in this notice are available on EDA's Internet Web site at http://www.eda.gov.

SUPPLEMENTARY INFORMATION:

I. Abstract

EDA's mission is to lead the federal economic agenda by promoting innovation and competitiveness, preparing American regions for growth and success in the worldwide economy. EDA will fulfill its mission by fostering entrepreneurship, innovation and productivity through investments in infrastructure development, capacity building and business development in order to attract private capital investments and higher-skill, higher-wage jobs to regions experiencing substantial and persistent economic distress. To effectively administer and monitor its economic development assistance programs, EDA collects certain information from applicants for, and recipients of, EDA investment assistance.

On August 11, 2005, EDA published an interim final rule in the Federal Register (70 FR 47002) to reflect the amendments made to EDA's authorizing statute, PWEDA, by the 2004 Act. In addition to tracking the statutory amendments to PWEDA, the interim final rule reflects EDA's current practices and policies in administering its economic development programs that have evolved since the promulgation of its former regulations. On September 30, 2005, EDA published a notice in the Federal Register (70 FR 57124) to (i) delay the effective date of certain provisions in the interim final rule, and (ii) extend the public comment period for the interim final rule from October 11, 2005 to November 14, 2005. Except as otherwise provided by the September 30, 2005 notice, the interim final rule is effective as of October 1, 2005.

EDA is currently conducting a comprehensive review of its forms and other information collections to ensure that they correspond with the 2004 Act and the interim final rule. EDA is soliciting public comments on the collections of information contained in this notice.

EDA forms are available for downloading, completing and printing (portable document format (PDF)) on EDA's Internet Web site at http://www.eda.gov. Presently, EDA does not accept the electronic submission of completed forms or other information collections. These forms are not currently transaction-based, although EDA anticipates that the forms associated with the pre-application and application process will become transaction-based and able to be completed and filed on-line when EDA begins using the Department's proposed consolidated back-office on-line grants management system (“Grants On-Line”).

II. Collections of Information

A. Proposal and Application for Financial Assistance (OMB Control No. 0610-0094)

1. Purpose: These information collections are necessary to determine eligibility for investment assistance under EDA's authorizing statute and regulations, the quality of the proposed scope of work to address the pressing economic distress of a region, the merits of the activities for which investment assistance is requested, and the ability of the eligible applicant to carry out the proposed activities successfully. Eligible applicants first must submit a pre-application (ED-900P) and then be invited by EDA to submit a formal application (ED-900A).

2. Method of Collection: Paper Report.

3. Data:

Agency Form Numbers: ED-900P (Pre-Application for Federal Assistance); ED-900A (Application for Federal Assistance).

Type of Review: Regular submission.

Affected Public: State and local governments; Indian tribes; institutions of higher education; non-profit organizations; for-profit organizations; private individuals.

Estimated Number of Annual Responses: 1,900 (1,100 for Form ED-900P and 800 for Form ED-900A).

Estimated Time per Response: 9 hours for each Form ED-900P; 48.5 hours for each Form ED-900A.

Estimated Total Annual Burden Hours: 48,700 (9,900 for Forms ED-900P; 38,800 for Forms ED-900A).

Estimated Total Annual Cost: 0.

B. Petition by a Firm for Certification of Eligibility to Apply for Trade Adjustment Assistance (OMB Control No. 0610-0091)

1. Purpose: Pursuant to Chapter 3 of Title II of the Trade Act of 1974, as amended, the Secretary of Commerce is responsible for administering adjustment assistance for trade-injured firms. The Secretary of Commerce has delegated this statutory authority and responsibilities to EDA. EDA administers the Trade Adjustment Assistance program to assist trade-injured U.S. manufacturing and producing firms to develop and implement strategies for competing in the global marketplace. EDA uses Form ED-840P to collect information from a petitioning firm to determine if it is eligible to apply for trade adjustment assistance.

2. Method of Collection: Paper Report.

3. Data:

Agency Form Number: ED-840P (Petition by a Firm for Certification of Eligibility to Apply for Trade Adjustment Assistance).

Type of Review: Regular submission.

Affected Public: Manufacturing or producing firms.

Estimated Number of Annual Responses: 200.

Estimated Time per Response: 8 hours.

Estimated Total Annual Burden Hours: 1,600.

Estimated Total Annual Cost: 0.

C. Revolving Loan Fund (RLF) Grants (OMB Control No. 0610-0095)

1. Purpose: These information collections are necessary to ensure proper monitoring and compliance with EDA's statutory and regulatory requirements for RLFs.

2. Method of Collection: Paper Report.

3. Data:

Agency Form Numbers: ED-209A (RLF Annual Report); ED-209S (RLF Semi-Annual Report); ED-209I (Income and Expense Statement); RLF Standard Terms and Conditions; RLF Plan Guidelines.

Type of Review: Regular submission.

Affected Public: State and local governments; Indian tribes; institutions of higher education; non-profit organizations.

Estimated Number of Annual Responses: 2,265 (1,058 for RLF Annual and Semi-Annual Reports; 596 for RLF Income and Expense Statement; 596 for RLF Standard Terms and Conditions; 15 for RLF Plan Guidelines).

Estimated Time per Response: 12 hours for the RLF Annual Report; 12 hours for the Semi-Annual Report; 2 hours for the Income and Expense Statement; 15 hours for the RLF Standard Terms and Conditions; 40 hours for the RLF Plan Guidelines).

Estimated Total Annual Burden Hours: 23,428 (12,696 for RLF Annual and Semi-Annual Reports; 1,192 for RLF Income and Expense Statement; 8,940 for RLF Standard Terms and Conditions; 600 for RLF Plan Guidelines).

Estimated Total Annual Cost: 0.

D. Comprehensive Economic Development Strategy Guidelines (OMB Control No. 0610-0093)

1. Purpose: A Comprehensive Economic Development Strategy (CEDS) is required to qualify for EDA investment assistance under its Public Works, Economic Adjustment, and most planning programs, and is a prerequisite for a region's designation by EDA as an Economic Development District. The Comprehensive Economic Development Strategy Guidelines set forth technical and procedural requirements for the development and implementation of a CEDS, including reporting requirements for Economic Development District and other EDA-funded planning organizations.

2. Method of Collection: Paper Report.

3. Data:

Agency Form Number: None.

Type of Review: Regular submission.

Affected Public: State and local governments; Indian tribes; institutions of higher education; non-profit organizations.

Estimated Number of Annual Responses: 640.

Estimated Time per Response: 240 hours for initial CEDS for District Organizations and other EDA-funded planning organizations; 25 hours for CEDS for non-Districts and non-EDA-funded organizations; 50 hours for Annual CEDS Report; 75 hours for CEDS update.

Estimated Total Annual Burden Hours: 34,430.

Estimated Total Annual Cost: 0.

E. Requirements for Approved Construction Investments (OMB Control No. 0610-0096)

1. Purpose: The Requirements for Approved Construction Investments manual supplements the requirements that apply to EDA-funded construction projects. The information collected is used to monitor recipients' compliance with EDA's statutory and regulatory requirements and specific terms and conditions relating to individual awards. EDA also uses the information requested to analyze and evaluate program performance.

2. Method of Collection: Paper Report.

3. Data:

Agency Form Number: None.

Type of Review: Regular submission.

Affected Public: State and local governments; Indian tribes; institutions of higher education; non-profit organizations.

Estimated Number of Annual Responses: 1,160.

Estimated Time per Response: 20 hours.

Estimated Total Annual Burden Hours: 23,200.

Estimated Total Annual Cost: 0.

F. Request To Amend an Investment Award and Project Service Maps (OMB Control No. 0610-0102)

1. Purpose: A recipient must submit a written request to EDA to amend an investment award and provide such information and documentation as EDA deems necessary to determine the merit of altering the terms of a grant (Section 302.7(a) of EDA's interim final rule). A project service map allows EDA to determine how effectively the project is addressing a region's economic development needs (Section 302.16(c) of EDA's interim final rule).

2. Method of Collection: Paper Report.

3. Data:

Agency Form Number: None.

Type of Review: Regular submission.

Affected Public: State and local governments; Indian tribes; institutions of higher education; non-profit organizations; for-profit organizations; private individuals.

Estimated Number of Annual Responses: 55 (45 requests to amend an investment award (20 planning investments and 25 non-planning investments) and 10 project service maps).

Estimated Time per Response: 4 hours for amendments to planning investment awards; 16 hours for amendments to non-planning investment awards; 6 hours for project service maps.

Estimated Total Annual Burden Hours: 540 (80 hours for amendments to planning investments; 400 hours for amendments to non-planning investments; 60 hours for project service maps).

Estimated Total Annual Cost: 0.

G. Property Management (OMB Control No. 0610-0103)

1. Purpose: A recipient must request in writing EDA's approval to undertake an incidental use of property acquired or improved with EDA investment assistance. This collection of information allows EDA to determine whether an incidental use of property acquired or improved with EDA investment assistance is appropriate. If a recipient of EDA investment assistance wishes for EDA to release its real property or tangible personal property interests before the expiration of the property's estimated useful life, the recipient must submit a written request to EDA. This collection of information allows EDA to determine whether to release its real property or tangible personal property interests.

2. Method of Collection: Paper Report.

3. Data.

Agency Form Number: None.

Type of Review: Regular submission.

Affected Public: State and local governments; Indian tribes; institutions of higher education; non-profit organizations.

Estimated Number of Annual Responses: 45 (25 requests for an incidental use of property and 20 requests for a release of EDA's property interests).

Estimated Time per Response: 6 hours for an incidental use request; 12 hours for a release of EDA's property interests.

Estimated Total Annual Burden Hours: 390 (150 hours for incidental use requests; 240 hours for releases of EDA's property interests).

Estimated Total Annual Cost: 0.

H. Designation of a Region as a Special Impact Area (OMB Control No. 0610-0104)

1. Purpose: Upon the written application of an eligible applicant, EDA may designate the region which the project will serve as a “Special Impact Area” if the applicant demonstrates that its proposed project will directly fulfill a pressing need and assist in preventing excessive unemployment (Section 214 of PWEDA and Part 310 of the interim final rule). EDA uses the information collected to determine whether to make a “Special Impact Area” designation.

2. Method of Collection: Paper Report.

3. Data:

Agency Form Number: None.

Type of Review: Regular submission.

Affected Public: State and local governments; Indian tribes; institutions of higher education; non-profit organizations.

Estimated Number of Annual Responses: 12.

Estimated Time per Response: 10 hours.

Estimated Total Annual Burden Hours: 120.

Estimated Total Annual Cost: 0.

I. Trade Adjustment Assistance Proposals (OMB Control No. 0610-0105)

1. Purpose: A certified firm works with the applicable Trade Adjustment Assistance Center (“TAAC”) to develop an adjustment proposal. The TAAC then submits the completed adjustment proposal to EDA for approval. If the adjustment proposal is approved, a certified firm may then request EDA-funded trade adjustment assistance through the TAAC.

2. Method of Collection: Paper Report.

3. Data:

Agency Form Number: None.

Type of Review: Regular submission.

Affected Public: Manufacturing or producing firms.

Estimated Number of Annual Responses: 180.

Estimated Time per Response: 120 hours.

Estimated Total Annual Burden Hours: 21,600.

Estimated Total Annual Cost: 0.

J. Request for Public Hearing (Section 315.9) (OMB Control No. 0610-0106)

1. Purpose: In order to have a public hearing, a person with a substantial interest in an accepted petition for trade adjustment assistance certification must submit a written request that follows the provisions set forth in Section 315.9. This information collection provides EDA with sufficient information to determine whether a public hearing is warranted.

2. Method of Collection: Paper Report.

3. Data:

Agency Form Number: None.

Type of Review: Regular submission.

Affected Public: Any person, organization or group found by EDA to have a substantial interest in the certification or non-certification by EDA of a petition for Trade Adjustment Assistance.

Estimated Number of Annual Responses: 1.

Estimated Time per Response: 1 hour.

Estimated Total Annual Burden Hours: 1 hour.

Estimated Total Annual Cost: 0.

III. Request for Comments

Public comments are invited with respect to each of the collections of information listed above on: (a) Whether the proposed collection of information is necessary for the proper performance of the functions of the agency, including whether the information shall have practical utility; (b) the accuracy of the agency's estimate of the burden (including hours and cost) of the proposed collection of information; (c) ways to enhance the quality, utility and clarity of the information to be collected; and (d) ways to minimize the burden of the collection of information on respondents, including through the use of automated collection techniques or other forms of information technology.

Comments submitted in response to this notice will be summarized and included in the request for the Office of Management and Budget's approval of these information collections and they also will become a matter of public record.

Dated: November 7, 2005.
Madeleine Clayton,
Management Analyst, Office of the Chief Information Officer.

[FR Doc. 05-22513 Filed 11-10-05; 8:45 am]

BILLING CODE 3510-24-P